DEPARTMENT OF TRANSPORTATION

Federal Aviation Administration

Agency Information Collection Activities; Requests for Comments; Clearance of Renewed Approval of Information Collection: Aircraft Noise Certification Documents for International Operations

AGENCY: Federal Aviation Administration (FAA), DOT.

ACTION: Notice and request for comments.

SUMMARY: In accordance with the Paperwork Reduction Act of 1995, FAA invites public comments about our intention to request the Office of Management and Budget (OMB) approval to renew an information collection. This collection ensures that U.S. operators have proper noise certification information when they fly outside the U.S., in compliance with ICAO, Annex 16, Volume 1, Amendment 8.

DATES: Written comments should be submitted by June 18, 2013.

FOR FURTHER INFORMATION CONTACT: Kathy DePaepe at (405) 954-9362, or by email at: Kathy.A.DePaepe@faa.gov.

SUPPLEMENTARY INFORMATION: OMB Control Number: 2120-073.

Title: Aircraft Noise Certification Documents for International Operations.

Form Numbers: There are no FAA forms associated with this collection.

Type of Review: Renewal of an information collection.

Background: 14 CFR part 91 requires operators of U.S. registered civil aircraft flying outside the United States to carry aircraft noise certification information on board. This rule is needed to ensure consistent compliance with the ICAO, Annex 16, Volume 1, Amendment 8 that requires certain noise information be carried on board the aircraft. The rule requires that this information be easily accessible to the flight crew and presentable upon request to the appropriate foreign officials.

Respondents: Approximately 5,066 operators of aircraft currently registered to U.S. mainline air carriers.

Frequency: One-time initial response per aircraft subject to the rule, for the information to be recorded and maintained.

Estimated Average Burden per Response: 25 minutes.

Estimated Total Annual Burden: 2,111 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on April 15, 2013.
Albert R. Spence,
FAA Assistant Information Collection Clearance Officer, IT Enterprises Business Services Division, AES-200.

[FR Doc. 2013-09240 Filed 4-18-13; 8:45 am]

BILLING CODE 4910-13-P